DEPARTMENT OF ENERGY

Federal Energy Regulatory Commission

[Docket No. IC09-732-001]

Commission Information Collection Activities (FERC-732); Comment Request; Submitted For OMB Review

November 9, 2009.

AGENCY: Federal Energy Regulatory Commission.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission received no comments in response to the Federal Register notice (74 FR 45434, 9/2/2009) and has made this notation in its submission to OMB.

DATES: Comments on the collection of information are due by December 17, 2009.

ADDRESSES: Address comments on the collection of information to the Office of Management and Budget, Office of Information and Regulatory Affairs, Attention: Federal Energy Regulatory Commission Desk Officer. Comments to OMB should be filed electronically, c/o oira__submission@omb.eop.gov and include OMB Control Number 1902-0140 as a point of reference. The Desk Officer may be reached by telephone at 202-395-4638. A copy of the comments should also be sent to the Federal Energy Regulatory Commission and should refer to Docket No. IC09-732-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket No. IC09-732-001.

All comments may be viewed, printed or downloaded remotely via the Internet through FERC's homepage using the “eLibrary” link. For user assistance, contact ferconlinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: To implement section 1233 of the Energy Policy Act of 2005 (EPAct 2005) (which added new section 217 to the Federal Power Act (FPA)), the Commission requires each transmission organization that is a public utility with one or more organized electricity markets to make available long-term firm transmission rights that satisfy each of the Commission's guidelines. The reporting requirements of FERC-732 ¹ (“Electric Rate Schedules and Tariffs: Long-Term Firm Transmission Rights in Organized Electricity Markets,” OMB Control Number 1902-0245) pertain to these long-term transmission rights and are described in 18 CFR part 42.

¹ This information collection has been labeled “FERC-913”, “FERC-913/516”, and “FERC-913 (Temporary)” with a goal of incorporating it later into FERC-516 (OMB Control No. 1902-0096). In addition, in Order No. 681 (in Docket No. RM06-8, issued 7/20/06), the burden was listed as part of FERC-516. OMB approved the new reporting requirements on 1/24/07 and assigned OMB Control No. 1902-0236 (rather than including it in FERC-516).

On 9/28/07 (in ICR Nos. 200610-1902-002 and 200709-1902-008), OMB approved transfer from OMB Control No. 1902-0236 to OMB Control No. 1902-0245. However, OMB Control No. 1902-0245 does not indicate a FERC collection number. To eliminate some of the confusion, we have assigned these requirements a new FERC collection number, FERC-732. The new collection number does not affect the regulatory requirements or burden.

In the future, FERC plans to incorporate the FERC-732 reporting requirements and related burden into the FERC-516. However, FERC-516 is currently the subject of OMB review, so the Commission will track these requirements (and the related burden hours) separately under FERC-732. FERC-516 is not a subject of this Notice.

The FERC-732 regulations require that transmission organizations that are public utilities with one or more organized electricity markets either: (a) File tariff sheets making long-term firm transmission rights available that are consistent with each of the guidelines established by FERC, or (b) file an explanation describing how their existing tariffs already provide long-term firm transmission rights that are consistent with the guidelines. In addition, each transmission organization is required to make its transmission planning and expansion procedures and plans publicly available.

FERC-732 enables the Commission to exercise its wholesale electric rate and electric power transmission oversight and enforcement responsibilities in accordance with the FPA, the Department of Energy Organization Act (DOE Act), and EPAct 2005.

Action: The Commission is requesting a three-year extension of the current expiration date for the FERC-732, with no changes to the reporting requirements.

Burden Statement: The public reporting burden for this collection is estimated to be as follows:

FERC-732 ¹ | Number of respondents annually | Number of responses per respondent | Average burden hours per response | Total annual burden hours
| (1) | (2) | (3) | (1) × (2) × (3)
New Transmission Organizations with Organized Electricity Markets—filing requirement | 1 | 1 | 1,180 | 1,180
Existing & New Transmission Organizations with Organized Markets—making plans & procedures available to public | 6 | 1 | 2 | 12
Total annual estimate |  |  |  | 1,192

Any transmission organization approved by the Commission for operation after January 29, 2007, that has one or more organized electricity markets (administered either by it or by another entity), will be required to comply with the FERC-732 reporting requirements. Although it is difficult to predict whether the Commission will receive an application for, and approve, a transmission organization in the foreseeable future, the regulations, reporting requirements, and burden of FERC-732 merit continued renewal of the OMB (Office of Management and Budget) clearance. As a result, we are including a `placeholder' estimate of 1 respondent and 1 response annually for the filing requirement. In addition, each existing transmission organization subject to Part 42 must make its transmission planning and expansion procedures and plans publicly available (under 18 CFR 42.1(c)(4)) for an estimated burden of 2 hours per respondent.

The estimated total cost to respondents is $71,491.35 [1,192 hours divided by 2,080 hours ² per year, times $124,750 ³ equals $71,491.35]. The estimated cost per respondent is $70,771.63 for new transmission organizations, and $119.95 for existing transmission organizations.

² Number of hours an employee works each year.

³ The Bureau of Labor Statistics, Department of Labor Occupational Handbook (`May 2008 National Occupational Employment and Wage Estimates [United States],' at http://www.bls.gov/oes/2008/may/oes_nat.htm#b23-0000) shows the mean annual salary for a lawyer is $124,750, or $59.98 per hour.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-27472 Filed 11-16-09; 8:45 am]

BILLING CODE 6717-01-P